DEPARTMENT OF LABOR

Occupational Safety and Health Administration

Susan Harwood Training Grant Program, FY 2002 Budget

AGENCY: Occupational Safety and Health Administration (OSHA), Labor.

ACTION: Notice of availability of funds and solicitation for grant applications.

SUMMARY: The Occupational Safety and Health Administration (OSHA) awards funds to nonprofit organizations to conduct safety and health training and education in the workplace. This notice announces grant availability for two different categories of Susan Harwood Training Grants. The Targeted Topic grants will support training in occupational safety and health on topics selected by OSHA. The Institutional Competency Building grants will assist organizations in expanding their occupational safety and health training, education and related assistance capacity. The two categories of grants are described below.

1. Targeted Topic Grants

Two topics have been selected for the Targeted Topic grants.

The training topics are:

• Ergonomic hazards

• Homeland security.

Targeted Topic category grants will be awarded for 12 months. There is approximately $1.2 million available for this grant category. The average award will be $150,000.

2. Institutional Competency Building Grants

Grants are available to nonprofit organizations to assist them in expanding their safety and health training, education and related assistance capacity. To be eligible to apply for this grant category, organizations must serve clients nationally or in multi-state areas, and provide safety and health training, education and services to their clients.

Organizations will be expected to institutionalize safety and health training, education, and related assistance in their organization in order to assist workers and employers on an ongoing basis.

Institutional Competency Building grants will be awarded for 12 months. There is approximately $5.4 million available for this grant category and an average Federal award will be $250,000.

This notice describes the scope of the grant program and provides information about how to get detailed grant application instructions. All applicants must obtain the detailed grant application instructions mentioned later in the notice before submitting an application.

Separate grant applications must be submitted by organizations interested in applying under more than one grant category or for more than one training topic.

The Occupational Safety and Health Act of 1970 and the Departments of Labor, Health and Human Services, and Education, and Related Agencies Appropriation Act, Pub. L. 107-116, authorize this program.

DUE DATE: Grant applications must be received by 4:30 p.m. central time, Friday, June 21, 2002.

ADDRESS FOR MAILING APPLICATIONS: Submit one signed original and three copies of each grant application to the attention of Grants Officer, U.S. Department of Labor, OSHA Office of Training and Education, Division of Training and Educational Programs, 1555 Times Drive, Des Plaines, Illinois 60018.

FOR FURTHER INFORMATION CONTACT: Ernest Thompson, Chief, Division of Training and Educational Programs, or Cynthia Bencheck, Program Analyst, OSHA Office of Training and Education, 1555 Times Drive, Des Plaines, Illinois 60018, telephone (847) 297-4810. This is not a toll-free number. E-mail: cindy.bencheck@osha.gov.

SUPPLEMENTARY INFORMATION:

What Is the Purpose of the Susan Harwood Training Grant Program?

Susan Harwood Training Grants provide funds to train workers and employers to recognize, avoid, and prevent safety and health hazards in their workplaces. The program emphasizes three areas.

• Educating workers and employers in small businesses. A small business has 250 or fewer workers.

• Training workers and employers about new OSHA standards.

• Training workers and employers about high risk activities or hazards identified by OSHA through its Strategic Plan, or as part of an OSHA special emphasis program.

Grantees are expected to provide occupational safety and health training programs, develop safety and health training and/or educational programs, recruit workers and employers for the training, and conduct the training. Grantees are also expected to follow up with people trained by their program to determine what, if any, changes were made to reduce hazards in their workplaces as a result of the training.

What Are the Two Grant Categories Being Announced This Year?

1. Targeted Topic grants.

2. Institutional Competency Building grants.

What Are the Training Topics for the Targeted Topic Grants?

Two training topics were chosen for this grant announcement. Applicants wishing to apply for more than one grant topic must submit a separate grant application for each topic. Each grant application must address one of the following training topics.

1. Ergonomics. Programs that train workers and employers in the recognition and prevention of workplace ergonomic risk factors in industries that have a high incidence rate for ergonomic injuries. The training program should follow established best practices or follow a combination of effective practices for addressing the ergonomic risk factors for the industry being targeted to receive this training. The applicant must demonstrate in the grant application that the industry being targeted for the ergonomics training has a high incidence rate for ergonomic injuries.

2. Homeland Security (emergency preparedness and response). Programs that train workers and employers on preparing to respond to emergency situations at their workplaces. Applicants may propose training programs that address emergency preparedness for any industry covered by the Occupational Safety and Health Act.

Training programs should include information on developing and maintaining comprehensive emergency action plans and focus on occupational safety and health requirements such as egress, evacuation policies and procedures, and fire safety protection plans. Other relevant workplace emergency preparedness topics that can be included or proposed under this topic include biological hazards, chemical hazards, and workplace violence.

What Is the Purpose of the Institutional Competency Building Grants?

These grants are intended to assist nonprofit organizations in expanding their safety and health training, education, and related assistance capacity. To be eligible to apply for this grant program category, organizations must be nonprofit, serve clients nationally or in multi-state areas, and provide safety and health training, education and services to their clients.

Organizations will be expected to institutionalize safety and health training, education, and related assistance in their organization in order to assist workers on an ongoing basis.

Who Is Eligible To Apply for a Grant?

Any nonprofit organization is eligible to apply. Private nonprofit community-based organizations, which may be faith-based, are also eligible to apply. State or local government supported institutions of higher education are eligible to apply in accordance with 29 CFR 97.4(a)(1).

Applicants other than State or local government supported institutions of higher education will be required to submit evidence of nonprofit status, preferably from the Internal Revenue Service (IRS).

What Can Grant Funds Be Spent on?

Grant funds can be spent on the following:

• Conducting training.

• Conducting other activities that reach and inform workers and employers about occupational safety and health hazards and hazard abatement.

• Developing educational materials for use in the training.

Are There Restrictions on How Grant Funds Can Be Spent?

Grant funds may not be used for the following activities.

1. Any activity that is inconsistent with the goals and objectives of the Occupational Safety and Health Act of 1970.

2. Training involving workplaces that are not covered by the Occupational Safety and Health Act. Examples include State and local government workers in non-State Plan States and workers covered by section 4(b)(1) of the Act.

3. Production, publication, reproduction or use of training and educational materials, including newsletters and instructional programs that have not been reviewed by OSHA for technical accuracy.

4. Activities that address issues other than recognition, avoidance, and prevention of unsafe or unhealthy working conditions. Examples include workers' compensation, first aid, and publication of materials prejudicial to labor or management.

5. Activities that provide assistance to workers or employers in arbitration cases or other actions against employers, or that provide assistance to employers and workers in the prosecution of claims against Federal, State or local governments.

6. Activities that directly duplicate services offered by OSHA, a State under an OSHA-approved State Plan, or consultation programs provided by State designated agencies under section 21(d) of the Occupational Safety and Health Act.

What Other Grant Requirements Are There?

1. OSHA review of educational materials. OSHA will review all educational materials produced by the grantee for technical accuracy during development and before final publication. OSHA will also review training curricula and purchased training materials for accuracy before they are used. Grantees developing training materials must follow all copyright laws and document that their materials are free from copyright infringements.

When grant recipients produce training materials, they must provide copies of completed materials to OSHA before the end of the grant period. OSHA has a lending program that circulates grant-produced audiovisual materials. Audiovisual materials produced by the grantee as a part of its grant program will be included in this lending program. In addition, all materials produced by grantees must be provided to OSHA in hard copy as well as in a digital format (CD Rom) for possible publication on the Internet by OSHA. Three copies of the materials must be provided to OSHA. Acceptable formats for training materials include Microsoft Word 2000 and Microsoft PowerPoint 2000.

2. OMB and regulatory requirements. Grantees are required to comply with the following documents.

• 29 CFR part 95, which covers grant requirements for nonprofit organizations, including universities and hospitals. These are the Department of Labor regulations implementing OMB Circular A-110.

• OMB Circular A-21, which describes allowable and unallowable costs for educational institutions.

• OMB Circular A-122, which describes allowable and unallowable costs for other nonprofit organizations.

• OMB Circular A-133, 29 CFR parts 96 and 99, which provide information about audit requirements.

• 29 CFR parts 31 and 36 as applicable.

3. Certifications. All applicants are required to certify to a drug-free workplace in accordance with 29 CFR part 98, to comply with the New Restrictions on Lobbying published at 29 CFR part 93, to make a certification regarding the debarment rules at 29 CFR part 98, and to complete a special lobbying certification.

4. Students. The training program must serve multiple employers and their employees.

5. Other. In compliance with the President's Executive Orders 12876 as amended, 12928, 13230, and 13021 as amended, the grantee is strongly encouraged to provide subgranting opportunities to Historically Black Colleges and Universities, Hispanic Serving Institutions and Tribal Colleges and Universities.

6. The restrictions on expenditures of Federal funds in appropriations acts, Pub. L. 107-67 and 107-117, to the extent those restrictions are pertinent to the award.

7. Acknowledgment of Federal Funds. When issuing statements, press releases, requests for proposals, bid solicitations, and other documents describing projects or programs funded in whole or in part with Federal money, all grantees receiving Federal funds included in the Act, (Pub. L. 107-117), including but not limited to State and local governments and recipients of Federal research grants, shall clearly state: (1) The percentage of the total costs of the program or project that will be financed with Federal money; (2) the dollar amount of Federal funds for the project or program; and (3) percentage and dollar amount of the total costs of the project or program that will be financed by non-governmental sources.

What Information Must My Application Contain?

To be considered for a Harwood grant, an application must include all of the information listed in this notice. In addition, all applicants should obtain and review the grant application package before preparing and submitting their grant application. A complete application will contain the following forms and narrative.

1. Application for Federal Assistance form (SF 424).

2. Program Summary. The program summary is a short one-to-two page abstract that summarizes the proposed project and provides information about the applicant organization.

3. Budget Information forms (SF 424A).

4. Detailed Budget Backup.

5. Program Narrative, not to exceed 30 pages in length, which includes: Problem Statement/Need for Funds; Managerial Experience; Program Experience; Workplan.

6. Assurances form (SF 424B).

7. Certifications form (OSHA 189).

8. Supplemental Certification Regarding Lobbying Activities form.

9. Organization Chart.

10. Evidence of Non-Profit Status, if applicable.

11. Accounting System Certification, if applicable.

How Are Applications for the Targeted Topic Grants Reviewed and Rated?

OSHA staff will review grant applications and present the results to the Assistant Secretary who will make the selection of organizations to be awarded grants.

The following factors will be considered in evaluating grant applications.

1. Program Design

a. The proposed training and education program addresses one of the two selected training topics. Please refer back to the What are the training topics for the Targeted Topic grants? section for details on the selected training topics.

i. Ergonomics. Programs that train workers and employers in the recognition and prevention of workplace ergonomic risk factors in industries that have a high incident rate for ergonomic injuries. The programs should follow established best practices or follow a combination of effective practices for addressing these ergonomic risk factors for the industry being targeted to receive this training.

ii. Homeland Security (emergency preparedness and response). Programs that train workers and employers on preparing to respond to emergency situations at their workplaces.

OSHA will give preference to applications that:

• Train managers or supervisors in addition to workers.

• Contribute a non-Federal matching share towards the grant. While applicants are not required to do so, preference will be given to organizations that contribute a non-Federal share.

b. The proposal plans to train workers and/or employers and clearly estimates the numbers to be trained, and clearly identifies the types of workers and employers to be trained. The training will reach workers and employers from multiple employers.

c. If the proposal contains a train-the-trainer program, the following information must be provided:

• What ongoing support the grantee will provide to new trainers;

• The number of individuals to be trained as trainers;

• The outline of the course curriculum that will be used by the new trainers to teach their students;

• The estimated number of courses to be conducted by the new trainers;

• The estimated number of students to be trained by these new trainers; and

• A description of how the new trainers will report back to the grantee about their classes and student numbers.

d. The planned activities and training are tailored to the needs and levels of the workers and employers to be trained.

e. There is a plan to recruit trainees for the program.

f. If the proposal includes developing educational materials, there is a plan for OSHA to review the materials during development.

g. There is a plan to evaluate the program's effectiveness and impact to determine if the safety and health services provided resulted in workplace change. This includes a description of the evaluation plan to follow up with trainees to determine the impact the program has had in abating hazards and reducing worker injuries.

h. There is a description of the target population, the hazards that will be addressed, the barriers that have prevented adequate training for the target population, why the program cannot be completed without Federal funds, and why funding sources currently available cannot be used for this purpose.

2. Program Experience

a. The organization applying for the grant demonstrates experience with occupational safety and health. Nonprofit community-based organizations, which may be faith-based, must partner with an established safety and health organization or must demonstrate that their organization has prior experience in providing safety and health training to workers or employers.

b. The organization applying for the grant demonstrates experience in training adults in work-related subjects or in providing services to its target audience.

c. The staff to be assigned to the project has experience in occupational safety and health, the specific topic chosen, and training adults.

d. The organization applying for the grant demonstrates experience in recruiting, training, and working with the population it proposes to serve under the grant.

3. Administrative Capability

a. The applicant organization demonstrates experience managing a variety of programs.

b. The applicant organization has administered, or will work with an organization that has administered, a number of different Federal and/or State grants over the past five years.

c. The application is complete, including forms, budget detail, narrative and workplan, and required attachments.

4. Budget

a. The budgeted costs are reasonable.

b. The budget complies with Federal cost principles (which can be found in applicable OMB Circulars) and with OSHA budget requirements contained in the grant application instructions.

c. The cost per trainee is less than $500 and the cost per training hour is reasonable.

In addition to the factors listed above, the Assistant Secretary will take other items into consideration, such as the geographical distribution of the grant programs and the coverage of populations at risk.

How Are Applications for the Institutional Competency Building Grants Reviewed and Rated?

OSHA staff will review grant applications and present the results to the Assistant Secretary who will make the selection of organizations to be awarded grants.

The following factors will be considered in evaluating grant applications.

1. Program Design

a. The proposed competency building program will provide ongoing safety and health training, education and services.

OSHA will give preference to applications that:

• Train managers or supervisors in addition to workers.

• Contribute a non-Federal matching share towards the grant. While applicants are not required to do so, preference will be given to organizations that contribute a non-Federal share.

• Propose to reach and serve one or more categories of workers within the target audience. The target audience includes non-English speaking workers, small business employers and employees, and workers who are employed in high hazard industries and industries with high fatality rates.

• Propose to develop, validate, and evaluate occupational safety and health training materials for use by employers in traditional classroom settings or workplace settings. OSHA will make these materials available to the public.

• Organizations that plan to institutionalize safety and health training, education, and related assistance in their organization in order to assist workers and employers on an ongoing basis.

b. The proposal plans to train workers and/or employers and clearly estimates the numbers to be trained, and clearly identifies the types of workers and employers to be trained. The training will reach workers and employers from multiple employers.

c. If the proposal contains a train-the-trainer program, the following information must be provided:

• What ongoing support the grantee will provide to new trainers;

• The number of individuals to be trained as trainers;

• The content outline of the course curriculum that will be used by the new trainers to teach their students;

• The estimated number of courses to be conducted by the new trainers;

• The estimated number of students to be trained by these new trainers; and

• A description of how the new trainers will report back to the grantee about their classes and student numbers.

d. The planned activities and training are tailored to the needs and levels of the workers and employers to be trained.

e. There is a plan to recruit trainees for the program.

f. If the proposal includes developing educational materials, there is a plan for OSHA to review the materials during development.

g. There is a plan to validate and evaluate the program's effectiveness and impact to determine if the safety and health services provided resulted in workplace change. This includes a description of the evaluation plan to follow up with trainees to determine the impact the program has had in abating hazards and reducing worker injuries.

h. There is a description of the target population, the hazards that will be addressed, the barriers that have prevented adequate training for the target population, why the program cannot be completed without Federal funds, and why funding sources currently available cannot be used for this purpose.

2. Program Experience

a. The organization applying for the grant demonstrates experience with occupational safety and health. Nonprofit community-based organizations, which may be faith-based, must partner with an established safety and health organization or must demonstrate that their organization has prior experience in providing safety and health training to workers.

b. The organization applying for the grant demonstrates experience in training adults in work-related subjects or in providing services to its target audience.

c. The staff to be assigned to the project has experience in occupational safety and health, the specific topic chosen, and training adults.

d. The organization applying for the grant demonstrates experience in recruiting, training, and working with the population it proposes to serve under the grant.

3. Administrative Capability

a. The applicant organization demonstrates experience managing a variety of programs.

b. The applicant organization has administered, or will work with an organization that has administered, a number of different Federal or State grants over the past five years.

c. The application is complete, including forms, budget detail, narrative and workplan, and required attachments.

4. Budget

a. The budgeted costs are reasonable.

b. The budget complies with Federal cost principles (which can be found in applicable OMB Circulars) and with OSHA budget requirements contained in the grant application instructions.

c. The cost per trainee and the cost per training hour are reasonable.

In addition to the factors listed above, the Assistant Secretary will take other items into consideration, such as the geographical distribution of the grant programs and the coverage of populations at risk.

How Much Money Is Available for Grants?

Targeted Topic grants. There is approximately $1.2 million available for these grants. The Federal award will average $150,000.

Institutional Competency Building grants. There is approximately $5.4 million available for these grants. The Federal award will average $250,000.

How Long Are Grants Awarded for?

Grants are awarded for a twelve-month period. The period of performance begins September 30, 2002, and ends September 30, 2003. The grant applicant's workplan should coincide with these dates.

How Do I Get a Grant Application Package?

Grant application instructions may be obtained from the OSHA Office of Training and Education, Division of Training and Educational Programs, 1555 Times Drive, Des Plaines, Illinois 60018. The application instructions are also available at http://www.osha.gov/fso/ote/training/sharwood/sharwood.html.

When and Where Are Applications To Be Sent?

The application deadline is 4:30 p.m. central time, Friday, June 21, 2002.

Submit one signed original and three copies of each application to Grants Officer, U. S. Department of Labor, OSHA Office of Training and Education, Division of Training and Educational Programs, 1555 Times Drive, Des Plaines, IL 60018.

How Will I Be Told if My Application Was Selected?

Organizations selected as grant recipients will be notified by a representative of the Assistant Secretary, usually from an OSHA Regional Office. An applicant whose proposal is not selected will be notified in writing.

Notice that an organization has been selected as a grant recipient does not constitute approval of the grant application as submitted. Before the actual grant award, OSHA will enter into negotiations concerning such items as program components, funding levels, and administrative systems. If the negotiations do not result in an acceptable submittal, the Assistant Secretary reserves the right to terminate the negotiation and decline to fund the proposal.

Signed at Washington, DC, this 16th day of May, 2002.
John L. Henshaw,
Assistant Secretary of Labor.

[FR Doc. 02-12851 Filed 5-21-02; 8:45 am]

BILLING CODE 4510-26-P